DEPARTMENT OF ENERGY

Federal Energy Regulatory Commission

[Docket No. RP01-225-001]

Gulf South Pipeline Company, LP; Notice of Compliance Filing

March 26, 2001.

Take notice that on March 19, 2001, Gulf South Pipeline Company, LP (Gulf South) tendered for filing as part of its FERC Gas Tariff, Sixth Revised Volume No. 1, the following tariff sheets, to become effective March 1, 2001.

Substitute Original Sheet No. 1416

Substitute Original Sheet No. 2902

Substitute Original Sheet No. 2903

Substitute Original Sheet No. 2904

Substitute Original Sheet No. 2905

Sheet Nos. 2906-3299 Reserved

In its Order Accepting Tariff Sheets Subject to Conditions, issued on March 2, 2001, in Docket No. RP01-225, the Commission required Gulf South to make a compliance filing incorporating certain changes to its initial tariff filing. This compliance filing incorporates those changes to the appropriate tariff sheets.

Any person desiring to protest said filing should file a protest with the Federal Energy Regulatory Commission, 888 First Street, NE, Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments, protests and interventions may be filed electronically via the internet in lieu of paper. See, 18 CFR 385.2001(a)(1)(iii) and the instructions on the Commission's web site at http://www.ferc.fed.us/efi/doorbell.htm.

David P. Boergers,
Secretary.

[FR Doc. 01-7855 Filed 3-29-01; 8:45 am]

BILLING CODE 6717-01-M